DEPARTMENT OF HOMELAND SECURITY

Transportation Security Administration

Intent To Request Extension From OMB of One Current Public Collection of Information: Airport Security Part 1542

AGENCY: Transportation Security Administration, DHS.

ACTION: 60-day notice.

SUMMARY: The Transportation Security Administration (TSA) invites public comment on one currently approved Information Collection Request (ICR), Office of Management and Budget (OMB) control number 1652-0002, abstracted below that we will submit to OMB for an extension in compliance with the Paperwork Reduction Act (PRA). The ICR will describe the nature of the information collection and its expected burden. TSA airport security programs require airport operators to submit certain information to TSA, as well as to maintain and update records to ensure compliance with security provisions.

DATES: Send your comments by November 6, 2017.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be made available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (EO) 13771, Reducing Regulation and Controlling Regulatory Costs, and EO 13777, Enforcing the Regulatory Reform Agenda, TSA is also requesting comments on the extent to which this request for information could be modified to reduce the burden on respondents.

Information Collection Requirement

OMB Control Number 1652-0002; Airport Security Part 1542. The information collection is used to determine compliance with 49 CFR part 1542 ¹ and to ensure passenger safety and security by monitoring airport operator security procedures. The following information collections and other recordkeeping requirements, with which respondent-covered airport operators must comply, fall under this OMB control number: (1) Development of an Airport Security Program (ASP) and submission to TSA; (2) submission of ASP amendments to TSA when applicable; (3) collection of data necessary to complete a criminal history records check (CHRC) for those individuals with unescorted access authority to a Security Identification Display Area (SIDA); (4) submission to TSA of identifying information about individuals to whom the airport operator has issued identification media, such as name, address, and country of birth, in order for TSA to conduct a Security Threat Assessment (STA); (5) information collection and recordkeeping requirements associated with airport operator compliance with Security Directives (SDs) issued pursuant to the regulation; and (6) watch list matching of individuals subject to TSA's regulatory requirements against government watch lists.

¹ In July 2016, OMB approved TSA's request to revise OMB Control Number 1652-0002, by including in it the recordkeeping requirements under OMB Control Number 1652-0006, Employment Standards, which also applies to 49 CFR part 1542. This combined two previously-approved ICRs into this single request to simplify TSA collections, increase transparency, and reduce duplication.

This information collection is mandatory for covered airport operators. As part of their security programs, covered airport operators are required to maintain and update, as necessary, records of compliance with the security program provisions set forth in 49 CFR part 1542. This regulation also requires covered airport operators to make their security programs and associated records available for inspection and copying by TSA to verify compliance with transportation security regulations.

As required by 49 CFR part 1542, covered airport operators must ensure that individuals seeking unescorted access authority submit information for and receive a CHRC. Also, covered airport operators must ensure that all individuals to whom it issues an airport identification medium submit information so that TSA can conduct an STA. As part of this process, the individual must provide identifying information, including fingerprints. Additionally, airport operators must maintain these records and make them available to TSA for inspection and copying upon request.

TSA will continue to collect information to determine airport operator compliance with other requirements of 49 CFR part 1542. TSA estimates that there will be approximately 438 airport operator respondents to the information collection requirements described above, with a total annual burden estimate of approximately 1,618,268 hours. This is a difference from the 2016 ICR submission which had an annual burden of 1,657,102. The reduction is due to the number of airport operator respondents varying with the federalization and defederalization of airports.

Dated: August 31, 2017.
Christina A. Walsh,
TSA Paperwork Reduction Act Officer, Office of Information Technology.

[FR Doc. 2017-18923 Filed 9-6-17; 8:45 am]

BILLING CODE 9110-05-P